DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent application.

B-Defensins as Activators of Dendritic Cells and Vaccine Carrier

Arya Biragyn and Larry Kwak (NCI).

U.S. Provisional Application No. 60/421,488 filed 25 Oct 2002 (DHHS Reference No. E-342-2002/0-US-01).

Licensing Contact: Catherine Joyce; 301/435-5031; e-mail: joycec@mail.nih.gov.

Tumor antigens are known to be poorly immunogenic and attempts to elicit immune responses against the epitopes of antigens specific to tumor cells have been largely unsuccessful. The inventors have developed a cancer vaccine comprising a defensin fused to a tumor antigen or viral antigen to enhance the immunogenicity of the tumor antigen or viral antigen. The inventors have demonstrated, with animal data, that chimeric proteins comprising a defensin fused to a model tumor antigen (lymphoma-derived single-chain Fv) generate a measurable humoral and anti-tumor cellular immune response when administered to a subject. (Biragyn et al., Mediators of innate immunity that target immature, but not mature, dendritic cells induce antitumor immunity when genetically fused with nonimmunogenic tumor antigens, J. Immunology 2001 Dec 1, 167(11):6644-6653. Also, Biragyn et al., DNA vaccines encoding human immunodeficiency virus-1 glycoprotein 120 fusions with proinflammatory chemoattractants induce systemic and mucosal immune responses, Blood 2002 Aug 15 100(4):1153-1159.)

Recently the inventors have further discovered that murine beta-defensin 2 acts directly on immature dendritic cells as an endogenous ligand for Toll-like receptor 4 (TLR-4), inducing up-regulation of costimulatory molecules and dendritic cell maturation. (Biragyn et al., Toll-like receptor 4-dependent activation of dendritic cells by beta-defensin 2, Science 2002 Nov 1, 298(5595):1025-1029).

The above-mentioned invention is available for licensing on an exclusive or a non-exclusive basis.

Dated: October 24, 2003.
Steven M. Ferguson,
Director, Division of Technology Development and Transfer, Office of Technology Transfer, National Institutes of Health.

[FR Doc. 03-28057 Filed 11-6-03; 8:45 am]

BILLING CODE 4140-01-P